DEPARTMENT OF ENERGY

Energy Information Administration

Agency Information Collection Activities: Proposed Collection; Comment Request

AGENCY: Energy Information Administration (EIA), Department of Energy (DOE).

ACTION: Agency information collection activities: Proposed collection; comment request.

SUMMARY: The EIA is soliciting comments on the Forms EIA-911A-C, “Surveys to Assess Effects of Interruptions of Natural Gas Supplies.”

DATES: Comments must be filed on or before July 30, 2001. If you anticipate difficulty in submitting comments within that period, contact the person listed below as soon as possible.

ADDRESSES: Send comments to William Trapmann, (EI-44), ATTN: Form EIA-911, Forrestal Building, U.S. Department of Energy, Washington, DC 20585. Alternatively, Mr. Trapmann may be reached by telephone at 202-586-6408, by FAX at 202-586-4420 or by e-mail at william.trapmann@eia.doe.gov.

FOR FURTHER INFORMATION CONTACT: Requests for additional information or a copy of the forms and instructions should be directed to Mr. Trapmann at the address listed above.

SUPPLEMENTARY INFORMATION:

I. Background

II. Current Actions

III. Request for Comments

I. Background

The Federal Energy Administration Act of 1974 (FEA Act) (Pub. L. No. 93-275, 15 U.S.C. 761 et seq.) and the DOE Organization Act (Pub. L. No. 95-91, 42 U.S.C. 7101 et seq.) require the EIA to carry out a centralized, comprehensive, and unified energy information program. This program collects, evaluates, assembles, analyzes, and disseminates information on energy resource reserves, production, demand, technology, and related economic and statistical information. To carry out this program, section 13(b) of the FEA Act (15 U.S.C. 772(b)) states that “All persons owning or operating facilities or business premises who are engaged in any phase of energy supply or major energy consumption shall make available to the (Secretary) such information and periodic reports, records, documents, and other data, relating to the purposes of this Act, * * *”

Under the authorities granted, EIA conducts mandatory surveys of companies involved in energy supply and consumption. Conducting the surveys provides EIA with information used to accurately estimate United States energy supplies. Users of EIA's information include analysts in Federal, State, and local governments, as well as analysts in energy trade associations, energy companies, the media, consultants, and other private organizations.

The EIA, as part of its effort to comply with the Paperwork Reduction Act of 1995 (Pub. L. 104-13, 44 U.S.C. Chapter 35), provides the general public and other Federal agencies with opportunities to comment on collections of energy information conducted by or in conjunction with the EIA. Any comments received help the EIA to prepare data requests that maximize the utility of the information collected, and to assess the impact of collection requirements on the public. Also, the EIA will later seek approval by the Office of Management and Budget (OMB) of the collections under section 3507(a) of the Paperwork Reduction Act of 1995.

During the past two winters, EIA has fielded emergency surveys to collect information for addressing increasing volatility in natural gas supplies and prices. Most recently, in order to assess interactions of the natural gas and distillate energy markets during the 2000/2001 winter heating season (October-March) and to answer questions on the effects that “fuel-switching” customers (i.e., those that switch between natural gas and petroleum products) have on demand and prices, EIA needed to collect information that was not then available. To satisfy the information needs, EIA fielded the following surveys:

• Form EIA-911A, “Biweekly Gas Supplier Survey”

Form EIA-911A was used to collect information on a biweekly basis from a sample of companies that deliver natural gas regarding delivered volumes and interruptions of service for the January through March portion of the heating season. For each two-week period, data were collected on deliveries (firm, non-firm); interruptions (volumes and hours interrupted, both firm and non-firm); and customers interrupted.

• Form EIA-911B, “Biweekly Petroleum Product Suppliers Sales Report” For the same period, EIA collected information on a biweekly basis from petroleum product suppliers regarding customers serviced; volumes (gallons) sold by product to customers with fuel-switching capabilities; total retail and wholesale volumes sold by product, and beginning and ending secondary-system inventories by product.

• Form EIA-911C, “Biweekly Natural Gas And Petroleum Customer Survey” Also, EIA collected information on a biweekly basis from energy customers with fuel-switching capabilities regarding natural gas and petroleum product deliveries; voluntary and involuntary interruptions of natural gas deliveries (volumes and hours); substitutions of petroleum products as fuel in place of natural gas; and inventories of distillate fuel oil and other petroleum fuels.

For both the 1999/2000 and 2000/2001 heating seasons, EIA needed to request OMB approval on an emergency basis to collect natural gas information. The data collected was used to respond to requests from the Secretary of Energy and Congress.

II. Current Actions

Given the need for emergency approvals for the past two heating seasons and the likelihood of recurrences of volatile natural gas supplies and prices, EIA is requesting comments on three forms for which EIA will request contingency stand-by OMB approval for use in the event of future natural gas supply or price emergencies. EIA will request approval from OMB for the three surveys through August 31, 2004, to collect data during the winter heating season (October-March) if an emergency arises (e.g., large spikes in the price of natural gas or heating oil, a Congressional request, or a severe cold spell that results in low stocks of heating fuels). EIA will request that OMB approve the forms on a stand-by basis so that EIA would be able to implement them immediately when circumstances warrant. EIA's proposal allows the public to comment on the forms in a non-emergency setting, permits OMB time to review the forms without the time constraints of an emergency request, and allows EIA to have forms in place ready to address information needs in the event of significant supply and/or price volatility.

The EIA Administrator shall determine when conditions warrant implementing one or more of the proposed forms. At that time, EIA would notify OMB of the decision and would use the form(s) if OMB did not object. The geographic area(s) (e.g, specific States, U.S. regions, etc.) to be surveyed and the frequency (e.g., biweekly, monthly, etc.) of the data being collected would be determined by the Administrator at the time of a triggering event. The EIA does not anticipate the need for these forms on a national basis and does not believe that given existing and anticipated staff and resources that the forms would be implemented on a national basis.

III. Request for Comments

Prospective respondents and other interested parties should comment on the actions discussed in item II. The following guidelines are provided to assist in the preparation of comments.

General Issues

A. Are the proposed collections of information necessary for the proper performance of the functions of the agency and does the information have practical utility? Practical utility is defined as the actual usefulness of information to or for an agency, taking into account its accuracy, adequacy, reliability, timeliness, and the agency's ability to process the information it collects.

B. What enhancements can be made to the quality, utility, and clarity of the information to be collected?

As a Potential Respondent to the Request for Information

A. Are the instructions and definitions clear and sufficient? If not, which instructions need clarification?

B. Can the information be submitted by the due date?

C. Reporting burden is estimated to average:

EIA-911A = 2 hours per reporting period,

EIA-911B = 1 hour per reporting period, and

EIA-911C = 2 hours per reporting period.

The estimated burden includes the total time necessary to provide the requested information. In your opinion, how accurate are the burden estimates?

D. EIA estimates that the only cost to a respondent is for the time it will take to prepare for and complete the surveys. Will a respondent incur any other start-up costs for reporting, or any recurring annual costs for operation, maintenance, and purchase of services associated with the information collection?

E. What additional actions could be taken to minimize the burden of these collections of information? Such actions may involve the use of automated, electronic, mechanical, or other technological collection techniques or other forms of information technology.

F. Does any other Federal, State, or local agency collect similar information that would be useful for developing the accurate and independent natural gas data that would be available from the proposed survey? If so, specify the agency, the data element(s), the methods of collection, and the name and phone number of someone that EIA may contact for additional information.

As a Potential User of the Information To Be Collected

A. Is the information useful at the levels of detail to be collected?

B. For what purpose(s) would the information be used? Be specific.

C. Are there alternate sources for the information and are they useful? If so, please specify the sources and their weaknesses and/or strengths?

Comments submitted in response to this notice will be summarized and/or included in the request for OMB approval of the form. The comments also will become a matter of public record.

Statutory Authority: Section 3506(c)(2)(A) of the Paperwork Reduction Act of 1995 (Pub. L. No. 104-13, 44 U.S.C. Chapter 35).

Issued in Washington, D.C., May 21, 2001.
Jay H. Casselberry,
Agency Clearance Officer, Statistics and Methods Group, Energy Information Administration

[FR Doc. 01-13392 Filed 5-25-01; 8:45 am]

BILLING CODE 6450-01-P